DEPARTMENT OF AGRICULTURE

Forest Service

Grasshopper Fuels Management Project, Beaverhead-Deerlodge National Forests, Beaverhead County, MT

AGENCY: Forest Service, USDA.

ACTION: Notice; intent to prepare an environmental impact statement.

SUMMARY: The Beaverhead-Deerlodge National Forest (FS) and the Dillon Area Office, Bureau of Land Management (BLM) will prepare an environmental impact statement to document the analysis and disclose the environmental impacts of a proposed action to reduce hazardous fuels that pose a risk of wildfire on about 3900 acres administered by both agencies in the Grasshopper Valley, 35 miles northwest of Dillon, Montana. The purpose of the “Grasshopper Fuels Management” project is to: “Provide an increased margin of safety to the public; reduce threats to dwellings, structures, and improvements in the Grasshopper Valley, and create areas of defensible space providing a safer environment for firefighters when fires do occur.” The decisions to be made are the location, design, and scheduling of the proposed hazardous fuel reduction activity, and associated silvicultural practices; the estimated timber volume, if any, to make available from the project area; any access management measures (road construction, reconstruction, area restrictions and closures if connected to fuels reduction), mitigation measures and monitoring requirements.

Alternatives: This EIS will evaluate alternative methods to meet the designated Purpose and Need for action. The “Proposed Action” Alternative 1 (3900 acres) is essentially the proposed action that was identified in the scoping letter to the public in May 2002. It includes hazardous fuels reduction on 1700 acres of FS and BLM lands to reduce stand density, remove ladder fuels, and treat fuels buildup using a combination of mechanical treatments and prescribed fire. Thinning, Group Selection, Salvage and Sanitation are treatments proposed, using commercial timber harvest where appropriate to remove and utilize merchantable trees. On another 700 acres, a combination of cutting encroaching conifers and applying prescribed fire would maintain non-forest vegetation types and provide areas of defensible space. On 1500 acres located in an Inventoried Roadless Area, a combination of chainsaw felling of small diameter trees and prescribed fire would be used to remove ladder fuels and treat fuels buildup. Over 8,000 acres in the western and southwestern portion of the project area are part of an inventoried roadless area. No commercial timber harvest, permanent or temporary road construction is proposed within the inventoried roadless area. No permanent road construction is proposed in the project area; however, approximately 5 miles of temporary road and 1-2 miles of private land road maintenance are proposed for access purposes. Helicopter yarding to remove merchantable trees is proposed on a small BLM tract in the southern portion of the project area. As required by NEPA, “No Action” Alternative 2 will be analyzed as a baseline for gauging the potential impacts of action alternatives. Alternative 3 (2300 acres) will exclude any treatments within the inventoried roadless area and use less temporary road. Alternative 4 (3400 acres) will be the prescribed fire alternative, utilizing the felling of small diameter trees; ladder fuels and brush reduction, followed by low intensity underburns, broadcast or jackpot burning (of fuels concentrations). No temporary road construction is proposed in Alternative 4.

DATES: Initial comments concerning the scope of the analysis should be received in writing no later than 30 days from the publication of this notice of intent.

ADDRESSES: The responsible official is Bradley Powell, Regional Forester-Northern Region. Please send written comments to Thomas D. Osen, Dillon District Ranger, 420 Barrett Street, Dillon, Montana 59725. Comments may also be electronically submitted to rl_b-d_coments@fs.fed.us.

FOR FURTHER INFORMATION CONTACT: Greg Clark, project leader, Beaverhead-Deerlodge National Forest, 420 Barrett Street, Dillon, Montana 59725 or phone (406) 683-3935 or by e-mail to giclark@fs.fed.us.

SUPPLEMENTARY INFORMATION: The BLM is a cooperating agency in the development of the EIS for the Grasshopper Fuels Management project. The project area is located in the upper Grasshopper Creek watershed within the Pioneer Mountains in southwestern Montana (Townships 4, 5, 6 South, Range 12 West and Townships 5, 6 South, Range 13 West, Big Hole Guide Meridian). The scope of this proposal is limited to the analysis area covering approximately 17,000 acres. The analysis area abuts 3,100 acres BLM, 4,600 acres State and over 23,000 acres of country and privately owned lands.

Public participation is important to this analysis. Part of the goal of public involvement is to identify additional issues and to refine the general, tentative issues. In March 2002 a postcard providing project information was mailed to 525 individuals and groups. A total of 50 responses to this initial mailing were received. From the initial mailing, a scoping notice describing the proposed action and purpose/need was mailed in May 2002 to 65 individuals, organizations, Native Americans groups, federal and state agencies. Key issues for the Grasshopper Fuels Management project were identified through public and internal scoping. The following key issues were used in the development of alternatives to the proposed action:

(1) Analyze alternative effects on potential lynx habitat and habitat connectivity.

(2) Consider alternative effects on various resource values and roadless characteristics in inventoried roadless areas.

A number of other resource issues or concerns were identified during scoping and will be considered during the development of the draft EIS. The analysis will consider all reasonably foreseeable activities.

People may visit with Forest Service officials at any time during the analysis and prior to the decision. Two periods are specifically designated for comments on the analysis: (1) During the scoping process, and (2) during the draft EIS period.

During the scoping process, the Forest Service seeks additional information and comments from individuals or organization that may be interested in or affected by the proposed action, and Federal, State and local agencies. The Forest Service invites written comments and suggestions on this action, particularly in terms of identification of issues and alternative development.

The draft EIS is anticipated to be available for review in August 2003. The final EIS is planned for completion in December 2003.

The Environmental Protection Agency will publish the Notice of Availability of the draft Environmental Impact Statement in the Federal Register. The Forest will also publish a Legal Notice of its availability in the Montana Standard Newspaper, Butte, Montana. A 45-day comment period on the draft environmental impact statement will begin the day following the Legal Notice.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. The responsible official will make the decision on this proposal after considering comments and responses, environmental consequences discussed in the final EIS, applicable laws, regulations, and policies. The decision and reasons for the decision will be documented in a Record of Decision.

Dated: June 19, 2003.
Thomas K. Reilly,
Forest Supervisor.

[FR Doc. 03-16151 Filed 6-25-03; 8:45 am]

BILLING CODE 3410-11-M